FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 17, 2016.

A. Federal Reserve Bank of Chicago (Colette A. Fried, Assistant Vice President) 230 South LaSalle Street, Chicago, Illinois 60690-1414:

1. William C. Wetzeler, individually and acting in concert with Carol L. Schultz, Judith K. Nece, and Andrew J. Schultz, all of Spirit Lake, Iowa, to join the Wetzeler Family Control Group; to retain voting shares of State Banco, LTD, and thereby indirectly retain voting shares of The State Bank, both in Spirit Lake, Iowa.

B. Federal Reserve Bank of St. Louis (David L. Hubbard, Senior Manager) P.O. Box 442, St. Louis, Missouri 63166-2034. Comments can also be sent electronically to Comments.applications@stls.frb.org:

1. Robert R. Hermann, Jr., Palm Beach, Florida; as co-trustee of the Central Bancompany Voting Trust; to acquire voting shares of Central Bancompany, Inc., Jefferson City, Missouri, and thereby indirectly acquire voting shares of Central Bank of Audrain County, Mexico, Missouri; Central Bank of Boone County, Columbia, Missouri; Central Bank of Branson, Branson, Missouri; Central Bank of Lake of The Ozarks, Osage Beach, Missouri; Central Bank of Moberly, Moberly, Missouri; Central Bank of Oklahoma, Tulsa, Oklahoma; Central Bank of Sedalia, Sedalia, Missouri; Central Bank of St. Louis, Clayton, Missouri; Central Bank of The Midwest, Lee's Summit, Missouri; Central Bank of The Ozarks, Springfield, Missouri; Central Bank of Warrensburg, Warrensburg, Missouri; The Central Trust Bank, Jefferson City, Missouri; and Jefferson Bank of Missouri, Jefferson City, Missouri.

Board of Governors of the Federal Reserve System, April 27, 2016.
Michael J. Lewandowski,
Associate Secretary of the Board.

[FR Doc. 2016-10239 Filed 4-29-16; 8:45 am]

BILLING CODE 6210-01-P